DEPARTMENT OF COMMERCE

Bureau of Industry and Security

Action Affecting Export Privileges; Yaudat Mustafa Talyi a.k.a. Joseph Talyi, and International Business Services, Ltd., and Top Oil Tools, Ltd., and Uni-Arab Engineering and Oil Field Services, and Jaime Radi Mustafa, a.k.a. Radi Mustafa and Nureddin Shariff Sehweil, a.k.a. Dean Sehweil

Modification of Order Temporarily Denying Export Privileges

Through the Office of Export Enforcement (“OEE”), the Bureau of Industry and Security (“BIS”), U.S. Department of Commerce, has requested that I modify the order (“TDO”) I issued on March 29, 2003, pursuant to Section 766.24 of the Export Administration Regulations (currently codified a 15 CFR 730-774 (2003)) (“EAR”),¹ temporarily denying all U.S. export privileges of Yaudat Mustafa Talyi, a.k.a. Joseph Talyi, 888 Cross Gates Boulevard, Slidell, Louisiana 70458 (“Talyi”) and International Business Services, Ltd., 700 Gause Boulevard, Suite 304, Slidell, Louisiana 70458, 41 Chamale Cove East, Slidell, Louisiana 70460, and 2301 Covington Highway 190, Slidell, Louisiana 70460 (“IBS”). Pursuant to Sections 766.24(c) and 766.23 of the EAR, the TDO also applies to Top Oil Tools Ltd. (“Top Oil”), 41 Chamale Cove East, Slidell, Louisiana 70460, which is related to IBS and Talyi.

¹ From August 21, 1994 through November 12, 2000, the Act was in lapse. During that period, the President, through Executive Order 12924, which had been extended by successive Presidential Notices, the last of which was August 3, 2000 (3 CFR, 2000 Comp. 397 (2001)), continued the EAR in effect under the International Emergency Economic Powers Act (50 U.S.C. 1701-1707 (2000)) (“IEEPA”). On November 13, 2000, the Act was reauthorized and it remained in effect through August 20, 2001. Since August 21, 2001, the Act has been in lapse and the President, through Executive Order 13222 of August 17, 2001 (3 CFR, 2001 Comp. 783 (2002)), as extended by the Notice of August 14, 2002 (3 CFR, 2002 Comp. 306 (2003)), has continued the EAR in effect under IEEPA.

BIS states in its June 20, 2003 request that, based upon evidence developed since the issuance of the TDO, it believes that the following entity and individuals are also related to Talyi and IBS, and that applying the terms of the TDO to these additional related persons is necessary to prevent evasion thereof:

1. Uni-Arab Engineering and Oil Field Services (“Uni-Arab”), P.O. Box 46112, Abu Dhabi, United Arab Emirates, and, Al-Gaith Tower, Hamden Street, Flat No. 1202, Abu Dhabi, United Arab Emirates.

2. Jaime Radi Mustafa, a.k.a. Radi Mustafa (“Radi Mustafa”), 888 Cross Grates Boulevard, Slidell, Louisiana 70458, and, P.O. Box 46112, Abu Dhabi, United Arab Emirates.

3. Nureddin Shariff Sehweil, a.k.a. Dean Sehweil (“Sehweil”), 888 Cross Grates Boulevard, Slidell, Louisiana 70458, and, 106 Everest Drive, Slidell, Louisiana, 70461, and, P.O. Box 46112, Abu Dhabi, United Arab Emirates.

(Collectively, Uni-Arab, Radi Mustafa, and Sehweil are referred to as “proposed related persons.”)

On July 7, 2003, attorneys representing proposed related persons filed a timely opposition to BIS's request that I modify the TDO.

On July 14, 2003, BIS filed its Reply to Respondents' Opposition.

Having reviewed all submissions, I have found the following:

• A close relationship in the conduct of trade or business existed in the past, and continues to exist, between the parties subject to the TDO and the proposed related persons;

• After the TDO was issued, the proposed related persons knew of, and participated in, attempted export transactions in violation of the TDO; and

• The proposed related persons have engaged in business activities with Libya concerning items subject to the EAR without obtaining necessary authorization.

Consequently, I have determined that it is necessary to name the above-named entity and individuals as persons related to Talyi and IBS in order to prevent evasion of the terms and conditions of the TDO.

It is therefore ordered that the terms of the TDO denying the export privileges of Talyi and his company IBS, and related person Top Oil, are hereby made applicable to Uni-Arab, Radi Mustafa, and Sehweil as related persons.

In accordance with the provisions of Section 766.23(c) of the EAR, related persons may appeal this Order by filing a full written statement in support of the appeal with the Office of the Administrative Law Judge, U.S. Coast Guard ALJ Docketing Center, 40 South Gay Street, Baltimore, Maryland 21202-4022.

This modification of the TDO is effective immediately and shall remain in effect until the expiration of the TDO.

A copy of this modification to the TDO shall be served on Uni-Arab, Radi Mustafa, and Sehweil, and shall be published in the Federal Register.

Entered this 24th day of July, 2003.
Lisa A. Prager,
Acting Assistant Secretary for Export Enforcement.

[FR Doc. 03-19303 Filed 7-29-03; 8:45 am]

BILLING CODE 3510-DT-M